NATIONAL FOUNDATION ON THE ARTS AND THE HUMANITIES

National Endowment for the Humanities

Meeting of Humanities Panel

AGENCY: National Endowment for the Humanities.

ACTION: Notice of meeting.

SUMMARY: The National Endowment for the Humanities will hold twenty-seven meetings of the Humanities Panel, a federal advisory committee, during March and April 2019. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: March 14, 2019

This meeting will discuss applications on the topic of The Americas: Art and Literature, for the Scholarly Editions and Translations grant program, submitted to the Division of Research Programs.

2. Date: March 27, 2019

This meeting will discuss applications on the topics of British and Medieval Literature, for the Scholarly Editions and Translations grant program, submitted to the Division of Research Programs.

3. Date: March 27, 2019

This meeting will discuss applications for the National Digital Newspaper Program, submitted to the Division of Preservation and Access.

4. Date: March 29, 2019

This meeting will discuss applications on the topic of Archaeology, for the Collaborative Research grant program, submitted to the Division of Research Programs.

5. Date: April 1, 2019

This meeting will discuss applications on the topics of Arts and Media, for Digital Humanities Advancement Grants, submitted to the Office of Digital Humanities.

6. Date: April 2, 2019

This meeting will discuss applications on the topics of the Middle East, Africa, and Asia, for the Scholarly Editions and Translations grant program, submitted to the Division of Research Programs.

7. Date: April 3, 2019

This meeting will discuss applications on the topic of Cultural History, for Media Projects: Development Grants, submitted to the Division of Public Programs.

8. Date: April 3, 2019

This meeting will discuss applications on the topics of European Literature, History, and the Arts, for the Scholarly Editions and Translations grant program, submitted to the Division of Research Programs.

9. Date: April 3, 2019

This meeting will discuss applications on the topic of Digital Collections, for Digital Humanities Advancement Grants, submitted to the Office of Digital Humanities.

10. Date: April 4, 2019

This meeting will discuss applications on the topics of Literature, Arts, Philosophy, Religion, and Politics, for the Collaborative Research grant program, submitted to the Division of Research Programs.

11. Date: April 4, 2019

This meeting will discuss applications on the topic of U.S. History and Place, for Public Humanities Projects: Exhibitions: Implementation Grants, submitted to the Division of Public Programs.

12. Date: April 5, 2019

This meeting will discuss applications on the topic of History, for Media Projects: Development Grants, submitted to the Division of Public Programs.

13. Date: April 8, 2019

This meeting will discuss applications on the topics of Geospatial Modeling and Digital Archaeology, for Digital Humanities Advancement Grants, submitted to the Office of Digital Humanities.

14. Date: April 9, 2019

This meeting will discuss applications on the topic of History, for Media Projects: Production Grants, submitted to the Division of Public Programs.

15. Date: April 9, 2019

This meeting will discuss applications on the topics of History and Archaeology, for the Collaborative Research grant program, submitted to the Division of Research Programs.

16. Date: April 10, 2019

This meeting will discuss applications on the topics of Art, Music, Literature, and Architecture, for the Collaborative Research grant program, submitted to the Division of Research Programs.

17. Date: April 10, 2019

This meeting will discuss applications on the topic of Art History, for Public Humanities Projects: Exhibitions: Implementation Grants, submitted to the Division of Public Programs.

18. Date: April 10, 2019

This meeting will discuss applications on the topics of Arts, Media, and Literature, for Digital Humanities Advancement Grants, submitted to the Office of Digital Humanities.

19. Date: April 11, 2019

This meeting will discuss applications on the topics of U.S. Literature and Culture, for Public Humanities Projects: Exhibitions: Implementation Grants, submitted to the Division of Public Programs.

20. Date: April 11, 2019

This meeting will discuss applications on the topics of History and the Social Sciences, for the Collaborative Research grant program, submitted to the Division of Research Programs.

21. Date: April 12, 2019

This meeting will discuss applications on the topic of Cultural History, for Media Projects: Production Grants, submitted to the Division of Public Programs.

22. Date: April 12, 2019

This meeting will discuss applications for Public Humanities Projects: Humanities Discussions Grants, submitted to the Division of Public Programs.

23. Date: April 15, 2019

This meeting will discuss applications on the topics of Philosophy, Religion, and Social Science, for the Collaborative Research grant program, submitted to the Division of Research Programs.

24. Date: April 16, 2019

This meeting will discuss applications on the topic of The Americas: History and Philosophy, for the Scholarly Editions and Translations grant program, submitted to the Division of Research Programs.

25. Date: April 22, 2019

This meeting will discuss applications on the topics of Languages, Linguistics, and Text Analysis, for Digital Humanities Advancement Grants, submitted to the Office of Digital Humanities.

26. Date: April 24, 2019

This meeting will discuss applications on the topics of Scholarly Communications and Digital Editions, for Digital Humanities Advancement Grants, submitted to the Office of Digital Humanities.

27. Date: April 25, 2019

This meeting will discuss applications on the topics of History and Archaeology, for Digital Humanities Advancement Grants, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: February 12, 2019.
Elizabeth Voyatzis,
Committee Management Officer, National Endowment for the Humanities.

[FR Doc. 2019-02482 Filed 2-14-19; 8:45 am]

BILLING CODE 7536-01-P